DEPARTMENT OF COMMERCE

International Trade Administration

Steel Import Licensing and Surge Monitoring

AGENCY: Import Administration, International Trade Administration, Department of Commerce.

ACTION: Notice of continuation of Steel Import Licensing and Surge Monitoring program.

SUMMARY: Pursuant to the Presidential Proclamation to Provide for the Termination of Action Taken with Regard to Imports of Steel Products, issued December 4, 2003, the Department of Commerce will continue the Steel Import Licensing and Surge Monitoring program established effective February 1, 2003 (19 CFR part 360).

DATES: This notice is effective December 4, 2003.

FOR FURTHER INFORMATION CONTACT: Julie Al-Saadawi: telephone (202) 482-1930; fax (202) 501-1377; e-mail steel_license@ita.doc.gov. The information contained in this notice is also posted on the import licensing Web site (http://ia.ita.doc.gov/steel/license/).

SUPPLEMENTARY INFORMATION: On March 5, 2002, the President issued Proclamation 7529, implementing safeguard measures with respect to certain imported steel products pursuant to sections 201 and 203 of the 1974 Trade Act, 19 U.S.C. 2251, 2253 (67 FR 10553). In an accompanying Memorandum, the President instructed the Secretary of the Treasury and the Secretary of Commerce to establish a system of import licensing to facilitate the monitoring of imports of these steel products, and directed the Secretary of Commerce to publish regulations in the Federal Register establishing such a system of import licensing (67 FR 10593, 10596). Pursuant to this direction, Import Administration published proposed regulations establishing a system of import licensing on July 18, 2002 (67 FR 47338), and promulgated final regulations on December 31, 2002, effective February 1, 2003 (67 FR 79845).

On December 4, 2003, the President issued a proclamation terminating the safeguard measures and directing the Secretary of Commerce to continue the steel import licensing system established effective February 1, 2003, until the earlier of March 21, 2005, or such time as the Secretary of Commerce establishes a replacement program.

19 CFR 360.105, promulgated December 31, 2002, and effective February 1, 2003, provided as follows: “The licensing program will be in effect for the duration of the safeguard measures only. Licenses will be required on all subject imports entered during this period. The licenses will be valid for 10 business days after the expiration of the safeguard measures to allow for the final filing of required Customs documentation. Information collected under this system will not be kept longer than the period of time legally required beyond the expiration of these remedies.” Section 105, which is itself not a termination provision, referred to the initial period (three years and one day) for which the safeguard measures were proclaimed by the President (Proclamation 7529, section 9), after which they would expire in the absence of further action by the President. The duration of the licensing program is not affected by the early termination of such measures. The President retains authority to implement such other actions, including but not limited to the licensing program, as he deems appropriate and feasible pursuant to 19 U.S.C. 2253, without regard to the early termination of the safeguard measures.

James J. Jochum,
Assistant Secretary for Import Administration.

[FR Doc. 03-30571 Filed 12-8-03; 8:45 am]

BILLING CODE 3510-DS-P